ENVIRONMENTAL PROTECTION AGENCY

40 CFR Part 52

[EPA-R06-OAR-2019-0496; FRL-10005-72-Region 6]

Air Plan Approval; Louisiana; Withdrawal of Stage II Vapor Recovery Systems Requirements

AGENCY: Environmental Protection Agency (EPA).

ACTION: Proposed rule.

SUMMARY: Pursuant to the Federal Clean Air Act (CAA or the Act), the Environmental Protection Agency (EPA) is proposing to approve a revision to the Louisiana State Implementation Plan (SIP) submitted by the State of Louisiana on May 30, 2019 that pertains to gasoline dispensing facilities (GDFs) in the parishes of Ascension, East Baton Rouge, Iberville, Livingston, West Baton Rouge, and Pointe Coupee. The SIP revision proposed for approval would remove from the SIP the requirement to install Stage II vapor recovery systems and include the requirements for the decommissioning of existing Stage II equipment at GDFs in these areas.

DATES: Written comments must be received on or before March 30, 2020.

ADDRESSES: Submit your comments, identified by Docket No. EPA-R06-OAR-2019-0496, at https://www.regulations.gov/ or via email to jacques.wendy@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact Wendy Jacques, 214-665-7395, jacques.wendy@epa.gov. For the full EPA public comment policy, information about CBI or multimedia submissions, and general guidance on making effective comments, please visit https://www.epa.gov/dockets/commenting-epa-dockets.

Docket: The index to the docket for this action is available electronically at www.regulations.gov and in hard copy at the EPA Region 6 Office, 1201 Elm Street, Suite 500, Dallas, Texas. While all documents in the docket are listed in the index, some information may be publicly available only at the hard copy location (e.g., copyrighted material), and some may not be publicly available at either location (e.g., CBI).

FOR FURTHER INFORMATION CONTACT: Wendy Jacques, EPA Region 6 Office, Infrastructure & Ozone section, 1201 Elm Street, Suite 500, Dallas, TX 75270, 214-665-7395, jacques.wendy@epa.gov. To inspect the hard copy materials, please schedule an appointment with Ms. Jacques or Mr. Bill Deese at 214-665-7253.

SUPPLEMENTARY INFORMATION: Throughout this document “we,” “us,” and “our” means the EPA.

I. Background

Ozone is a gas composed of three oxygen atoms. Ground-level ozone is generally not emitted directly from a vehicle's exhaust or an industrial smokestack but is created by a chemical reaction between nitrogen oxides (NOX) and volatile organic compounds (VOC) in the presence of sunlight and high ambient temperatures. (VOC and NOX emissions often are referred to as “precursors” to ozone formation.) Thus, ozone is known primarily as a summertime air pollutant. Motor vehicle exhaust and industrial emissions, gasoline vapors, chemical solvents and natural sources emit NOX and/or VOC. Urban areas tend to have high concentrations of ground-level ozone, but areas without significant industrial activity and with relatively low vehicular traffic are also subject to increased ozone levels because wind carries ozone and its precursors hundreds of miles from their sources. In 1979, under section 109 of the CAA, the EPA established the primary and secondary National Ambient Air Quality Standards (NAAQS) for ozone at 0.12 parts per million (ppm) averaged over a 1-hour period (44 FR 8202, February 8, 1979). In 1997, we revised the primary and secondary NAAQS for ozone to set the acceptable level of ozone in the ambient air at 0.08 ppm, averaged over an 8-hour period (62 FR 38856, July 18, 1997). In 2008, we further revised the primary and secondary ozone NAAQS to 0.075 ppm, averaged over an 8-hour period (73 FR 16436, March 27, 2008). In 2015, we again revised the primary and secondary ozone NAAQS to 0.070 ppm, averaged over an 8-hour period (73 FR 16436, March 27, 2008). For additional information on ozone, visit https://www.epa.gov/ozone-pollution.

Stage II Vapor Recovery is an air pollution control technology for automobiles. When an automobile or other vehicle is brought into a gas station to be refueled, the empty portion of the gas tank on the vehicle contains gasoline vapors, which are VOCs. When liquid gasoline is pumped into the partially empty gas tank the vapors are forced out of the tank as the tank fills with liquid gasoline. Where air pollution control technology is not used, these vapors are emitted into the air. In the atmosphere, these VOCs can, in the presence of sunlight, react with NOX and VOCs from other sources to form ozone. The Stage II system consists of special nozzles and coaxial hoses at each gas pump that capture vapor from the vehicle's fuel tank and route them to underground or aboveground storage tank(s) during the refueling process.

Onboard refueling vapor recovery (ORVR) is another emission control system that can capture fuel vapors from vehicle gas tanks during refueling. As stated, Stage II vapor recovery systems are specifically installed at gasoline dispensing facilities and capture the refueling fuel vapors at the gasoline pump nozzle. The system carries the vapors back to the underground storage tank at the gasoline dispensing facility to prevent the vapors from escaping to the atmosphere. ORVR systems are carbon canisters installed directly on automobiles to capture the fuel vapors evacuated from the gasoline tank before they reach the nozzle. The fuel vapors captured in the carbon canisters are then combusted in the engine when the automobile is in operation.

Stage II vapor recovery systems and vehicle ORVR systems were initially both required by the 1990 Amendments to the CAA. Under CAA Section 182(b)(3) ozone nonattainment areas classified as moderate and above were required to adopt Stage II requirements with the goal of the technology being implemented on all gas stations by November 1994. CAA section 202(a)(6), requires an onboard system of capturing vehicle refueling emissions, commonly referred to as an ORVR system. In 1994, EPA promulgated ORVR standards (59 FR 16262 (April 6, 1994)). Section 202(a)(6) of the CAA required that the EPA's ORVR standards apply to light-duty vehicles manufactured beginning in the fourth model year after the model year in which the standards were promulgated, and that ORVR systems provide a minimum evaporative emission capture efficiency of 95 percent.¹ ORVR equipment has been phased in for new light duty vehicles (passenger vehicles) beginning with model year 1998 and starting with model year 2001 for light-duty trucks and most heavy-duty gasoline powered vehicles. Since 2006, ORVR has been a required emissions control on nearly all new gasoline-powered highway vehicles having less than 14,000 pounds gross vehicle weight rating. CAA section 202(a)(6) provides discretionary authority to the Administrator, by rule, the ability to revise or waive the application of the Stage II requirements for areas classified as Serious, Severe, or Extreme for ozone, as appropriate, after such time as the Administrator determines that onboard emissions control systems are in widespread use throughout the motor vehicle fleet.

¹ Unlike Stage II, which is a requirement only in ozone nonattainment areas, ORVR requirements apply to vehicles everywhere.

On May 16, 2012, EPA issued a national rulemaking making the finding that Stage II systems are in “widespread use” and determined that emission reductions from ORVR alone are essentially equal to and will soon surpass the emission reductions achieved by Stage II alone (see 77 FR 28772 at 28772). In the May 16, 2012 action, we noted that each year, non-ORVR-equipped vehicles continue to be replaced with ORVR-equipped vehicles and Stage II and ORVR systems capture the same VOC emissions and thus, are redundant. Id. EPA also determined that ORVR systems are in widespread use and waived the Stage II requirement for GDFs if doing so did not interfere with attaining or maintaining the ozone standards. Id. at 28776-287789. EPA also noted that any state currently implementing Stage II vapor recovery programs may submit SIP revisions that would allow for the phase-out of Stage II vapor recovery systems including a CAA section 110(l) analysis showing that its removal did not interfere with attaining or maintaining the ozone standards. Id.

The Baton Rouge ozone area, consisting of Ascension, East Baton Rouge, Iberville, Livingston, and West Baton Rouge Parishes, was designated as nonattainment under the 1-hour ozone NAAQS (56 FR 56694 (November 6, 1991)), the 1997 8-hour ozone NAAQS (69 FR 23857 (April 30, 2004)) and the 2008 8-hour ozone NAAQS (77 FR 30088 (May 21, 2012)). The Baton Rouge ozone area was subject to Stage II under the 1990 Clean Air Act Amendments as it was classified as Serious nonattainment for the 1-hour NAAQS for ozone. In 1994, EPA approved the Louisiana Stage II SIP (59 FR 14112 (March 25, 1994)) that required owners and operators of GDFs to install and operate Stage II vapor recovery equipment in the Louisiana 1-hour ozone nonattainment area. The Baton Rouge ozone area was found to be attaining the 1-hour ozone NAAQS on February 10, 2010 (75 FR 6570), and was redesignated as attainment for the 1997 8-hour ozone NAAQS on November 20, 2011 (76 FR 7400) and the 2008 8-hour ozone NAAQS on December 27, 2016, (81 FR 95051). Under the 2015 ozone NAAQS, all of Louisiana is designated as attainment/unclassifiable (82 FR 54232 (November 16, 2017) and 83 FR 25776 (June 4, 2018)).

The Stage II vapor recovery requirements also apply to Pointe Coupee Parish despite EPA's 1997 removal of Pointe Coupee Parish from the Baton Rouge ozone area and Pointe Coupee's attainment determination for the 1-hour ozone NAAQS. This was due to EPA's prior inclusion of Point Coupee Parish as part of the Baton Rouge 1-hour ozone nonattainment area in 1991 and EPA's approval of the Louisiana Stage II SIP in 1994 (59 FR 14112 (March 25, 1994)).²

² In 1991, Pointe Coupee Parish originally was included in the Baton Rouge 1-hour ozone nonattainment area (56 FR 5694 (November 6, 1991)). In 1997, we later removed Pointe Coupee Parish from the Baton Rouge ozone nonattainment area because it was not part of the Baton Rouge Consolidated Metropolitan Statistical Area (CMSA), and since it was no longer part of the Baton Rouge ozone area, we corrected its classification to Marginal, redesignated Pointe Coupee Parish to attainment for the 1-hour ozone NAAQS, and approved the Maintenance Plan, all in the same Federal Register Notice at 62 FR 648 (January 6, 1997). The State, however, did not submit a SIP revision to remove the Stage II requirement from the SIP until May 2019.

To determine whether we can approve the SIP revision, we must evaluate the impact of removing the Stage II vapor recovery requirements for the Baton Rouge ozone area which includes the Louisiana parishes of Ascension, East Baton Rouge, Iberville, Livingston, and West Baton Rouge as well as Pointe Coupee. (We hereinafter refer to the parishes within the Baton Rouge ozone area and Pointe Coupee Parish as “the 6-Parish Area.”).

II. Louisiana's SIP Revision

On May 30, 2019, Louisiana submitted revisions to Title 33 of the Louisiana Air Code, Part III, Chapter 21 (denoted LAC 33:III.2132) and corresponding revisions to the Louisiana Stage II Vapor Recovery SIP. In their SIP submittal, Louisiana demonstrated that emissions reductions from ORVR systems are estimated to be negligibly less than those from Stage II systems at GDFs, but that the air quality would not be negatively affected by the removal of Stage II equipment. Because of these two demonstrations, Louisiana requested the withdrawal of Stage II vapor recovery systems requirements for the 6-Parish Area from the SIP.

The revisions to the SIP describe the continued applicability of Stage II requirements until the operator of the GDF completes the decommissioning of the Stage II system; the requirement of the operator of the GDF to submit written notification to the Louisiana Department of Environmental Quality (LDEQ) of its intent to decommission Stage II equipment at least 30 calendar days prior to beginning any decommissioning activity; the requirement that technicians that have appropriate training and certification may perform the Stage II decommissioning procedure; the requirement that the operator shall notify LDEQ in writing no later than 10 days after completion of all decommissioning activities; and the requirement for the GDF to maintain all documents related to the decommissioning onsite at least 4 years and make such documents available upon request. All decommissioning activity must be completed within 30 days after the start date. Any existing GDF in Louisiana shall complete the decommissioning of the Stage II equipment within 18 months of EPA's final approval of this proposed rule. The revisions to the SIP also include a demonstration that the removal of Stage II equipment in the 6-Parish Area is consistent with section 110(l) of the Act.

III. EPA's Evaluation of the Revision

EPA's primary consideration for determining the approvability of Louisiana's revisions to remove Stage II vapor control requirements and provide for decommissioning of all Stage II equipment in the 6-Parish Area is whether these revisions comply with section 110(l) of the Act. Section 110(l) requires that a revision to the SIP not interfere with any applicable requirement concerning attainment and reasonable further progress (RFP), or any other applicable requirement of the Act. The EPA can approve a SIP revision that removes or modifies control measures in the SIP once the state makes a “noninterference” demonstration that such removal or modification will not interfere with attainment of the NAAQS, RFP or any other CAA requirement. Louisiana must make a demonstration of noninterference in the parishes of Ascension, East Baton Rouge, Iberville, Livingston, Pointe Coupee, and West Baton Rouge in order to remove the Stage II requirements from its SIP.

EPA has reviewed Louisiana's submittal, which specifically revised LAC 33:III.2132 subsections B-F and J, as well as the accompanying SIP narrative, and has concluded that Louisiana's May 30, 2019, SIP revision addresses the EPA's Widespread Use for Onboard Refueling Vapor Recovery and Stage II Waiver (77 FR 28772) and is consistent with EPA's “Guidance on Removing Stage II Gasoline Vapor Control Programs from State Implementation Plans and Assessing Comparable Measures” (EPA-457/B-12-001 (August 7, 2012)).³ In accordance with EPA's Guidance on Removing Stage II, Louisiana submitted a demonstration that the Stage II decommissioning will not interfere with attainment or maintenance of the ozone NAAQS, included the requirements for the decommissioning of Stage II vapor recovery equipment, and included the analysis of VOC emission impacts from removal of Stage II controls at GDFs located in the 6-Parish Area. Louisiana estimated using the guidance methodologies from the August 2012 guidance memo referenced above that the VOC emissions would minimally increase. LDEQ estimated the impact on emissions from decommissioning Stage II in the 6-Parish Area by using EPA approved equations from the same 2012 guidance, to assess compliance with CAA 110(l). The equations used were two values of Stage II vapor recovery system efficiencies (60 percent and 75 percent), and two representative fleet age distributions (2010 and 2017). The analyses indicated that by 2017, the removal of Stage II vapor recovery systems would result in a minimal increase in VOC emissions that ranges from 0.02 to 0.09 tons per day (tpd) distributed over the 6-Parish Area.

³ The guidance document is available at: https://www3.epa.gov/ttn/naaqs/aqmguide/collection/cp2/20120807_page_stage2_removal_guidance.pdf.

This minimal increase in VOC emissions from the 6-Parish Area is negligible when comparing the 0.02 to 0.09 tpd with the total amount of VOCs from all anthropogenic sources in the Baton Rouge ozone area. In the current Baton Rouge ozone area maintenance plan, VOC emissions were calculated to be 145.5 tpd in 2011, and projected to be 141.2 tpd in 2022 and 140.8 tpd in 2027 (83 FR 16017 at 16019, (April 13, 2018)).⁴ In addition, LDEQ indicated in their SIP submittal that ozone formation has been found in past photochemical modeling exercises in the 6-Parish Area to be driven by changes in NOX emissions, rather than VOC emissions. LDEQ indicated that ozone impacts were expected to be negligible from the increases in VOCs and included a reference to a prior modeling analysis that LDEQ had contracted Environ and ERG to perform in 2013.⁵ The modeling analysis reduced all man-made VOCs in Louisiana by 30% in the 2017 Future Year modeling, which equated to a decrease of 45 tpd in the 6-Parish Area subject to Stage II. Removal of 45 tpd resulted in reductions of only 0 to 1 ppb in the 2017 Future Year Design Value.⁶ We have reviewed this modeling and concur with LDEQ's assessment in their referenced report, that the 6-Parish Area typically responds to NOX emission changes and not VOC emission changes.⁷ Given that (1) the projected increase in VOC emissions is extremely small (<0.1 tpd) when compared to all the anthropogenic VOC emissions in the area and (2) ozone formation in the area has been found to be predominantly driven by changes in NOX emissions rather than VOC emissions, we believe that removal of Stage II vapor recovery systems would have a negligible impact on ozone levels.

⁴ EPA's proposed approval of Baton Rouge 2008 8-hour ozone NAAQS maintenance plan: 83 FR 16017 (April 13, 2018); EPA's final action: 83 FR 24226 (5/25/18). The State's submittal, Federal Register actions, and TSD to that action, are incorporated by reference into this action. See Docket number EPA-R06-OAR-2018-1111.

⁵ See LDEQ SIP pages 17 & 22. ENVIRON and ERG, 2013. “Technical Support Document: Photochemical Modeling for the Louisiana 8-hour Ozone State Implementation Plan.” Prepared by Environ International Corporation, Novato, CA, and Eastern Research Group, Inc., Rancho Cordova, CA, for the Louisiana Department of Environmental Quality, Baton Rouge, LA (August 2013); pdf pages 152-158. This document is in the docket as EPA-R06-OAR-2019-0496.

⁶ Id. and “EPA_Analysis_of_Environ_2013_Modeling_Report.xlsx” This document is in the docket as EPA-R06-OAR-2019-0496.

⁷ See. “Technical Support Document: Photochemical Modeling for the Louisiana 8-hour Ozone State Implementation Plan.” Prepared by Environ International Corporation, Novato, CA, and Eastern Research Group, Inc., Rancho Cordova, CA, for the Louisiana Department of Environmental Quality, Baton Rouge, LA (August 2013); pdf pages 152-158. This document is in the docket as EPA-R06-OAR-2019-0496.

In addition, the removal of Stage II is consistent with the current maintenance plan for the Baton Rouge ozone area for the 2008 8-hour ozone NAAQS (83 FR 24226 (May 25, 2018)) and the maintenance plan for Pointe Coupee Parish (78 FR 27058 (May 9, 2013)). The approved, revised maintenance plan for the redesignated Baton Rouge area demonstrates attainment of the 2008 8-hour ozone NAAQS through 2027.⁸ This approved maintenance plan for the five parishes estimates VOC emissions for 2027 to be 140.8 tpd. Assuming a maximum increase of 0.09 tpd VOC due to removal of Stage II vapor recovery requirements, the estimated VOC emissions for 2027 would be 140.8 + 0.09 = 140.89 tpd. Should the VOC emissions reach the maximum estimate of 140.89 tpd, they would still be less than the 2011 base year emissions of 144.1 tpd and thus, a maximum increase of 0.09 tpd VOC emissions is consistent with the maintenance plan for the area and would not interfere with the attainment or maintenance of the 2008 NAAQS in the five parishes.

⁸ In the approved maintenance plan, https://www.govinfo.gov/content/pkg/FR-2018-05-25/pdf/2018-11217.pdf, the VOC emissions for 2027 are estimated to be 140.8 tpd, which are lower than the 2011 base year emissions of 144.1 tpd. The State's submittal, Federal Register actions, and TSD to that action, are incorporated by reference into this action. See Docket number EPA-R06-OAR-2018-0111.

For Pointe Coupee Parish, we approved a maintenance plan for the 1997 8-hour ozone standard on May 9, 2013 (78 FR 27058). This maintenance plan demonstrates attainment through 2014. The maintenance plan estimates VOC emissions for 2014 as 7.66 tpd. Assuming a maximum increase of 0.09 tpd VOC due to removal of Stage II vapor recovery requirements, the estimated VOC emissions for 2014 would be 7.66 + 0.09 = 7.75 tpd. Should the VOC emissions reach the maximum estimate of 7.75 tpd, they would still be less than the 2002 base year emissions of 8.63 tpd and thus, a maximum increase of 0.09 tpd VOC emissions is consistent with the maintenance plan and would not interfere with the attainment or maintenance of the 1997 8-hour NAAQS in this parish.⁹

⁹ In the approved maintenance plan, https://www.govinfo.gov/content/pkg/FR-2013-05-09/pdf/2013-10832.pdf, the VOC emissions for 2014 are estimated to be 7.66 tpd, which are lower than the 2002 base year emissions of 8.63 tpd. The State's submittal, Federal Register actions, and TSD are incorporated by reference into this action. See Docket number EPA-R06-OAR-2007-0206.

For the 2015 ozone standard, all six parishes are designated attainment/unclassifiable. As noted above, we believe that removal of Stage II vapor recovery systems would have a negligible impact on ozone levels and the small increase is consistent with the 2008 ozone maintenance plan for the Baton Rouge area and the 1997 8-hour maintenance plan for Pointe Coupee Parish. Thus, approval of the SIP revision would not interfere with any applicable requirement concerning attainment and maintenance of any ozone standard and is compliant with CAA section 110(l).

IV. Proposed Action

The EPA is proposing to approve revisions to the Louisiana SIP that control emissions of VOCs and pertain to the removal of Stage II vapor recovery equipment submitted on May 30, 2019. Specifically, we are proposing to approve revisions to subsections B-F and J within LAC 33:III.2132 that remove from the SIP, the requirement for Stage II from the six parishes of Ascension, East Baton Rouge, Iberville, Livingston, Pointe Coupee, and West Baton Rouge and related revisions that address the removal of Stage II equipment. We are proposing to find that the SIP demonstrates that the removal of Stage II equipment in the six parishes meets section 110(l) of the Act.

V. Incorporation by Reference

In this action, we are proposing to include in a final rule regulatory text that includes incorporation by reference. In accordance with the requirements of 1 CFR 51.5, we are proposing to incorporate by reference revisions to the Louisiana regulations as described in the Proposed Action section above. We have made, and will continue to make, these documents generally available electronically through www.regulations.gov and in hard copy at the EPA Region 6 office (please contact the person identified in the FOR FURTHER INFORMATION CONTACT section of this preamble for more information).

VI. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735 (October 4, 1993)) and 13563 (76 FR 3821 (January 21, 2011));

• Is not an Executive Order 13771 (82 FR 9339 (February 2, 2017)) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255 (August 10, 1999));

• Is not an economically significant regulatory action based on health or safety risks subject to Executive Order 13045 (62 FR 19885 (April 23, 1997));

• Is not a significant regulatory action subject to Executive Order 13211 (66 FR 28355 (May 22, 2001));

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629 (February 16, 1994)).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249 (November 9, 2000)).

List of Subjects in 40 CFR Part 52

Environmental protection, Air pollution control, Incorporation by reference, Intergovernmental relations, Ozone, Volatile organic compounds.

Authority: 42 U.S.C. 7401 et seq.

Dated: February 20, 2020.
Kenley McQueen,
Regional Administrator, Region 6.

[FR Doc. 2020-04064 Filed 2-27-20; 8:45 am]

BILLING CODE 6560-50-P